DEPARTMENT OF TRANSPORTATION

Federal Railroad Administration

[Docket Number FRA-2016-0126]

Petition for Waiver of Compliance

In accordance with part 211 of Title 49 Code of Federal Regulations (CFR), this document provides the public notice that by a document dated December 19, 2016, the Capital Metropolitan Transportation Authority (CMTA) has petitioned the Federal Railroad Administration (FRA) for a waiver of compliance from certain provisions of the Federal railroad safety regulations for the purchase of four new railcars from Stadler Bussnang AG. Specifically, CMTA is requesting relief from 49 CFR part 229, Railroad Locomotive Safety Standards (229.47, 229.71, 229.135(b)(4)(xviii) and (xix)); 49 CFR part 231, Railroad Safety Appliance Standards (231.14(a)(2), (b)-(d), (f), (g)); and 49 CFR part 238, Passenger Equipment Safety Standards (238.305, 238.229, 238.230(d), and 238.309(b)). FRA assigned the petition Docket Number FRA-2016-0028.

The Capital Metro commuter rail system consists of a single rail line, known as the Red Line, running from downtown Austin, TX, to Austin's northern suburbs, a distance of 32 miles. The Red Line service began in March 2010. The current operation serves nine stations with a fleet of six diesel multiple unit (DMU) rail vehicles designated as model G1 GTWs, manufactured by Stadler Bussnag AG. Due to steadily increasing ridership and a desire to enhance service, Capital Metro will be adding four additional DMUs, manufactured by Stadler and designated model G4 GTW.

The Stadler G4 GTW DMUs are based on the G2 GTW DMUs, which are currently operating at the Denton County Transportation Authority in Denton, TX. The new vehicles are designed and built to current European design and regulatory standards, which differ in several areas from current U.S. design standards and regulations. Capital Metro believes that the design characteristics of the Stadler G4 GTW vehicles provide an equivalent or higher level of safety and security to the passengers and crew.

Capital Metro has organized its regulatory compliance efforts into two distinct but related parts: Part 1 represents the “base” compliance assessment effort (this petition) and Part 2 represents a separate petition to utilize Alternative Vehicle Technology crashworthiness technology as outlined in “Technical Criteria and Procedures for Evaluating the Crashworthiness and Occupant Protection Performance of Alternatively-Designed Passenger Rail Equipment for Use in Tier I Service” and the recent notice of proposed rulemaking (NPRM) on Passenger Equipment Safety Standards; Standards for Alternative Compliance and High-Speed Trainsets NPRM (81 FR 88006, December 6, 2016).

Noting that certain provisions in 49 CFR part 231 pertaining to safety appliances are statutorily required, and therefore not subject to FRA's waiver authority, CMTA also requested that FRA exercise its authority under 49 U.S.C. 20306 to exempt CMTA from certain provisions of Chapter 203, Title 49 of the United States Code because the G4 GTW DMU vehicles will be equipped with their own array of safety devices resulting in equivalent safety.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 25, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-07015 Filed 4-7-17; 8:45 am]

BILLING CODE 4910-06-P